DEPARTMENT OF ENERGY

Federal Energy Regulatory Commission

Combined Notice of Filings #1

Take notice that the Commission received the following electric corporate filings:

Docket Numbers: EC23-112-000.

Applicants: Elliott Associates, L.P., Elliott International, L.P., The Liverpool Limited Partnership.

Description: Elliott Associates, L.P., et al. submits Response to FERC's October 6, 2023 Deficiency Letter.

Filed Date: 11/2/23.

Accession Number: 20231102-5193.

Comment Date: 5 p.m. ET 11/28/23.

Docket Numbers: EC23-112-000.

Applicants: Elliott Associates, L.P., Elliott International, L.P., The Liverpool Limited Partnership.

Description: Gibson, Dunn & Crutcher, LLP submits work papers in support of the November 2, 2023 response to FERC's Deficiency Letter re the July 21, 2023 application of Elliot Associates, L.P. et al.

Filed Date: 11/6/23.

Accession Number: 20231106-0007.

Comment Date: 5 p.m. ET 11/28/23.

Take notice that the Commission received the following electric rate filings:

Docket Numbers: ER10-2924-017.

Applicants: Kleen Energy Systems, LLC.

Description: Notice of Non-Material Change in Status of Kleen Energy Systems, LLC.

Filed Date: 11/6/23.

Accession Number: 20231106-5167.

Comment Date: 5 p.m. ET 11/27/23.

Docket Numbers: ER12-779-000; ER12-995-000.

Applicants: Cherokee County Cogeneration Partners, LLC, Cherokee County Cogeneration Partners, LLC.

Description: Notice of Cancellation of Rate Market-Based Rate Authority and Tariff of Cherokee County Cogeneration Partners, LLC.

Filed Date: 11/2/23.

Accession Number: 20231102-5248.

Comment Date: 5 p.m. ET 11/24/23.

Docket Numbers: ER23-2398-003.

Applicants: Arizona Public Service Company.

Description: Compliance filing: Amendment No. 2 to APS Compliance Filing on Interconnection Reforms to be effective 9/30/2023.

Filed Date: 11/6/23.

Accession Number: 20231106-5148.

Comment Date: 5 p.m. ET 11/27/23.

Docket Numbers: ER23-2813-000.

Applicants: Castle Solar, LLC.

Description: Supplement to September 12, 2023, Castle Solar, LLC tariff filing.

Filed Date: 11/6/23.

Accession Number: 20231106-5165.

Comment Date: 5 p.m. ET 11/16/23.

Docket Numbers: ER23-2927-001.

Applicants: Southwest Power Pool, Inc.

Description: Tariff Amendment: Amended Filing in ER23-2927—Multi-Day Reliability Assessment Design to be effective 1/16/2024.

Filed Date: 11/7/23.

Accession Number: 20231107-5073.

Comment Date: 5 p.m. ET 11/28/23.

Docket Numbers: ER24-1-001.

Applicants: Consolidated Edison Company of New York, Inc.

Description: Tariff Amendment: Amended Value Stack Monthly Credit to be effective 10/2/2023.

Filed Date: 11/7/23.

Accession Number: 20231107-5111.

Comment Date: 5 p.m. ET 11/28/23.

Docket Numbers: ER24-352-000.

Applicants: AEP Texas Inc.

Description: § 205(d) Rate Filing: AEPTX-CGRP 10 (Copano & Port Bay Solar) Generation Interconnection Agr to be effective 10/18/2023.

Filed Date: 11/6/23.

Accession Number: 20231106-5135.

Comment Date: 5 p.m. ET 11/27/23.

Docket Numbers: ER24-353-000.

Applicants: Massachusetts Electric Company.

Description: Notice of Cancellation of Interconnection Agreement with Dichotomy Collins Hydro LLC of Massachusetts Electric Company.

Filed Date: 11/3/23.

Accession Number: 20231103-5259.

Comment Date: 5 p.m. ET 11/24/23.

Docket Numbers: ER24-354-000.

Applicants: Pacific Gas and Electric Company.

Description: Notice of Termination of Service Agreement No. 99 under Pacific Gas and Electric Company's FERC Electric Tariff Volume No. 5.

Filed Date: 11/1/23.

Accession Number: 20231101-5289.

Comment Date: 5 p.m. ET 11/22/23.

Docket Numbers: ER24-355-000.

Applicants: California Independent System Operator Corporation.

Description: Petition for Approval of Disposition of Penalty Assessment Proceeds and non-Refundable Interconnection Financial Security of the California Independent System Operator Corporation.

Filed Date: 11/2/23.

Accession Number: 20231102-5249.

Comment Date: 5 p.m. ET 11/24/23.

Docket Numbers: ER24-356-000.

Applicants: San Diego Gas & Electric Company.

Description: TO5 Formula Depreciation Rate Change for Common Plant and Electric General Plant of San Diego Gas & Electric Company.

Filed Date: 11/2/23.

Accession Number: 20231102-5252.

Comment Date: 5 p.m. ET 11/24/23.

Docket Numbers: ER24-357-000.

Applicants: Midcontinent Independent System Operator, Inc., Ameren Illinois Company.

Description: § 205(d) Rate Filing: Midcontinent Independent System Operator, Inc. submits tariff filing per 35.13(a)(2)(iii: 2023-11-07_SA 3028 Ameren IL-Prairie Power Project #40 Mason City Tap to be effective 1/7/2024.

Filed Date: 11/7/23.

Accession Number: 20231107-5066.

Comment Date: 5 p.m. ET 11/28/23.

Docket Numbers: ER24-358-000.

Applicants: AEP Texas Inc.

Description: § 205(d) Rate Filing: AEPTX-Industrial Bravo Project Generation Interconnection Agreement to be effective 10/18/2023.

Filed Date: 11/7/23.

Accession Number: 20231107-5110.

Comment Date: 5 p.m. ET 11/28/23.

Take notice that the Commission received the following public utility holding company filings:

Docket Numbers: PH24-2-000.

Applicants: ArcLight Capital Holdings, LLC.

Description: ArcLight Capital Holdings, LLC submits FERC 65-A Exemption Notification.

Filed Date: 11/3/23.

Accession Number: 20231103-5264.

Comment Date: 5 p.m. ET 11/24/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 7, 2023.
Debbie-Anne A. Reese,
Deputy Secretary.

[FR Doc. 2023-25035 Filed 11-13-23; 8:45 am]

BILLING CODE 6717-01-P